ENVIRONMENTAL PROTECTION AGENCY

[FRL-8293-8]

Proposed Agreement Regarding Site Costs, Site Access, Property Use Restrictions, and Covenants Not To Sue for the Beaver Wood Product Site, Flathead County, MT

AGENCY: Environmental Protection Agency (EPA).

ACTION: Notice of proposed agreement; request for public comment.

SUMMARY: In accordance with the requirements of section 122(h)(1) of the Comprehensive Environmental Response Compensation, and Liability Act of 1980, as amended (“CERCLA”), 42 U.S.C. 9622(h)(1), notice is hereby given of the proposed administrative settlement under section 122(h) of CERCLA, 42 U.S.C. 9622(h) between the U.S. Environmental Protection Agency (“EPA”) and Beaver Wood Products Incorporated, Loretta Grosswiler, and Richard Grosswiler (“Beaver Wood Products”) (collectively, “Settling Parties”). Settling Parties consent to and will not contest the authority of the United States to enter into this Agreement or to implement or enforce its terms. In return, Settling Parties will receive Covenants Not to Sue from EPA. EPA has incurred response costs at the Site in an amount totaling $5,299,434.69. The EPA alleges that the Settling Parties are a responsible parties pursuant to Section 107(a) of CERCLA, 42 U.S.C. 9607(a), and are jointly and severally liable for response costs incurred and to be incurred at or in connection with the Site. EPA has reviewed the Financial Information submitted to determine whether Settling Parties are financially able to pay Site response costs. Based upon this Financial Information, EPA has determined that Settling Parties have no current financial ability to pay for response costs incurred and to be incurred at the Site. However, if the future Net Sales Proceeds for Transfer of all or any portion of the Site Property equal or exceed $482,000.00, Settling Parties shall pay to EPA 65% of all Net Sales Proceeds equaling or exceeding $482,000.00. Additionally, within 90 days after closing on the Transfer of the Property, and if Settling Parties are in compliance with all requirements of this Agreement, EPA shall file a Release of Notice of Federal Lien on the Site Property. Further, Settling Parties agree to provide access to the Site and to any other property owned or controlled by Settling Parties for the purpose of conducting any necessary Site activity. Settling Parties shall refrain from using the Site, or such other property, in any manner that would interfere with or adversely affect the implementation, integrity, or protectiveness of the Site response. Such restrictions are defined as Land Use Restrictions and are included as an Appendix to this Agreement. Settling Parties agree to fulfill all Notice and Recording requirements. Within 45 days of entry of this Agreement, Settling Parties shall execute and record the Land Use Restrictions in the Office of the Clerk and Recorder of Flathead County, Montana and within 30 days of recording the Land Use Restrictions, Settling Parties shall provide EPA with a certified copy of the original recorded Land Use Restrictions, showing the clerk's recording stamps. Notwithstanding any provision of this Agreement, EPA retains all of its access authorities and rights, including enforcement authorities related thereto, under CERCLA, RCRA, and any other applicable statutes or regulations. This covenant not to sue is conditioned upon the satisfactory performance by Settling Parties of their obligations under this Agreement. This covenant not to sue is also conditioned upon the veracity and completeness of the Financial Information provided to EPA by Settling Parties. Settling Parties recognize that this Agreement has been negotiated in good faith and that this Agreement is entered into without the admission or adjudication of any issue of fact or law.

DATES: Comments must be submitted on or before April 5, 2007. For thirty (30) days following the date of publication of this notice, the Agency will receive written comments relating to the agreement. The Agency will consider all comments received and may modify or withdraw its consent to the agreement if comments received disclose facts or considerations that indicate that the agreement is inappropriate, improper, or inadequate.

ADDRESSES: The Agency's response to any comments, the proposed agreement and additional background information relating to the agreement is available for public inspection at the EPA Superfund Record Center, 1595 Wynkoop Street, Denver, Colorado. Comments and requests for a copy of the proposed agreement should be addressed to Michael Rudy, Enforcement Specialist, Environmental Protection Agency—Region 8, Mail Code 8ENF-RC, 1595 Wynkoop Street, Denver, Colorado 80202-1129, and should reference the Beaver Wood Products Site, Flathead County, Montana.

FOR FURTHER INFORMATION CONTACT: Michael Rudy, Enforcement Specialist, Environmental Protection Agency—Region 8, Mail Code 8ENF-RC, at the above address, (303) 312-6332.

Dated: February 26, 2007.
Sharon L. Kercher,
Director, Technical Enforcement Program, Office of Enforcement, Compliance, and Environmental Justice, Region 8.

[FR Doc. E7-3941 Filed 3-5-07; 8:45 am]

BILLING CODE 6560-50-P